ENVIRONMENTAL PROTECTION AGENCY

[FRL-9695-2]

Proposed CERCLA Administrative Cost Recovery Settlement; Standex International Corporation

AGENCY: Environmental Protection Agency.

ACTION: Notice; request for public comment.

SUMMARY: Notice is hereby given of a proposed administrative settlement for recovery of past response costs concerning the Trinity Superfund Site in Cleveland, Ohio, with the following settling party: Standex International Corporation. The settlement requires the settling party to pay $110,000 to the Hazardous Substance Superfund. The settlement includes a covenant not to sue the settling party pursuant to Section 107(a) of CERCLA. For thirty (30) days following the date of publication of this notice, the Agency will receive written comments relating to the settlement.

DATES: Comments must be submitted on or before July 30, 2012.

ADDRESSES: The proposed settlement is available for public inspection at the U.S. Environmental Protection Agency, Region 5, 77 West Jackson Blvd., Chicago, Illinois 60604. A copy of the proposed settlement may be obtained from Catherine Garypie, U.S. Environmental Protection Agency, 77 W. Jackson Boulevard (C-14J), Chicago, IL 60604, (312) 886-5825. Comments should reference the Trinity Superfund Site in Cleveland, Ohio and EPA Docket No. V-W-12-C-999 and should be addressed to LaDawn Whitehead, U.S. Environmental Protection Agency, Office of Enforcement and Compliance Assurance, 77 W. Jackson Boulevard, Chicago, IL 60604, (312) 886-3713.

SUPPLEMENTARY INFORMATION: In accordance with Section 122(i) of the Comprehensive Environmental Response, Compensation, and Liability Act, as amended (“CERCLA”), 42 U.S.C. 9622(i), notice is hereby given of a proposed administrative settlement for recovery of past response costs concerning the Trinity Superfund Site in Cleveland, Ohio, with the following settling party: Standex International Corporation. The settlement requires the settling party to pay $110,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Records Center, Room 714, 77 W. Jackson Boulevard, Chicago, IL 60604.

FOR FURTHER INFORMATION CONTACT: Catherine Garypie, U.S. Environmental Protection Agency, 77 W. Jackson Boulevard (C-14J), Chicago, IL 60604, (312) 886-5825.

Dated: June 20, 2012.
Richard C. Karl,
Director, Superfund Division, Region 5.

[FR Doc. 2012-16050 Filed 6-28-12; 8:45 am]

BILLING CODE 6560-50-P